DEPARTMENT OF HOMELAND SECURITY

Coast Guard

[Docket No. USCG-2015-1018]

Merchant Mariner Medical Advisory Committee's Response to Task Statement 1, Navigation and Vessel Inspection Circular 04-08 Revision

AGENCY: Coast Guard, DHS.

ACTION: Notice of availability.

SUMMARY: The Coast Guard announces the availability of the Merchant Mariner Medical Advisory Committee's response to Task Statement 1, “Navigation and Vessel Inspection Circular 04-08 Revision Working Group.” This document recommends various changes to NVIC 04-08, “Medical and Physical Evaluation Guidelines for Merchant Mariner Credentials,” which the Coast Guard uses when making decisions on mariner credentialing. The Coast Guard has not adopted this document as policy, but will consider it in future policy development.

ADDRESSES: Task Statement 1 and the Merchant Mariner Medical Advisory Committee's response to the task are available on the Coast Guard's Web site at: https://homeport.uscg.mil. To locate the documents on the Web site, select Missions/Ports and Waterways/Safety Advisory Committees/MEDMAC/Announcements/MEDMAC's Response to Task Statement 1—Navigation and Vessel Inspection Circular 04-08 Revision.

FOR FURTHER INFORMATION CONTACT: If you have questions on this notice, email MMCPolicy@uscg.mil.

SUPPLEMENTARY INFORMATION:

Background and Purpose

The Merchant Mariner Medical Advisory Committee (the Committee) is authorized under 46 United States Code 7115 and operates in accordance with the Federal Advisory Committee Act (Title 5 U.S.C., Appendix). The Committee advises the Secretary on matters related to (a) medical certification determinations for issuances of licenses, certificates of registry, and merchant mariners' documents; (b) medical standards and guidelines for the physical qualifications of operators of commercial vessels; (c) medical examiner education; and (d) medical research.

The Committee voted to accept Task Statement 1 during the second public meeting held on May 8-9, 2012 in Martinsburg, WV. This task requested that the Committee review sections of NVIC 04-08, “Medical and Physical Evaluation Guidelines for Merchant Mariner Credentials,” to ensure that the Coast Guard's guidance is in compliance with all current regulations and reflects medical considerations that are appropriate for merchant mariners.

Task Statement 1 required the following inputs. First, it required the working group to review the introduction and Enclosures 1, 2, 5, and 6 of NVIC 04-08 to ensure compliance with existing Coast Guard regulations in the Code of Federal Regulations. Second, it required the working group to review all medical conditions listed in Enclosures 3 and 4 of the NVIC and perform the following actions:

—Identify circumstances defining inordinate risk for the condition.

—Identify circumstances which would decrease the risk from inordinate.

—Determine appropriate amplifying information and testing required to assess the condition.

—Identify the standards used to determine the suitability of the condition.

—Determine the minimum compliance for the condition that should allow safe operation.

—Determine whether or not a waiver is required and define waiver parameters.

—Work with the Top Mariner Conditions working group to incorporate their recommendations for the top medical conditions.

Subsequently, a working group was established. The working group was comprised of individual members of MEDMAC and the public, although the composition of the working group changed over time. The Committee voted to accept the response to Task Statement 1 provided by the working group during the sixth public meeting held on September 29-30, 2014 in Piney Point, MD. All working group meetings were open to the public.

The response to Task Statement 1 is in the form of a revised NVIC 04-08. This revision includes both the introduction to NVIC 04-08 as well as revised versions of each of the enclosures. In accordance with the task statement, the working group has made revisions to each enclosure, but made substantial revisions to enclosures 3 and 4. These enclosures, entitled “Vision and Hearing Standards” and “Guidance on Specific Medical Conditions,” provide detailed guidelines that can help the Coast Guard make fitness determinations for mariners to maintain their credentials.

The Merchant Mariner Medical Advisory Committee's response to Task Statement 1 is a work product of the Committee and therefore is not an official Coast Guard policy and may not be cited as an official agency position. The Coast Guard may use the response, or portions of the response, for development of future policy.

Authority

This notice is issued under the authority of 5 U.S.C. 552(a), 46 U.S.C. 7101 et seq., 46 CFR 10.215, and Department of Homeland Security Delegation No. 0710.1.

Dated: November 17, 2015.
V. B. Gifford, Jr.,
Captain, U.S. Coast Guard, Director of Inspections and Compliance.

[FR Doc. 2015-29837 Filed 11-23-15; 8:45 am]

BILLING CODE 9110-04-P